ENVIRONMENTAL PROTECTION AGENCY

40 CFR Part 52

[EPA-R06-OAR-2010-0819; FRL-9905-15-Region 6]

Approval and Promulgation of Air Quality Implementation Plans; Texas; Environmental Speed Limit Revision for the Dallas/Fort Worth 8-Hour Ozone Nonattainment Area

AGENCY: Environmental Protection Agency (EPA).

ACTION: Proposed rule.

SUMMARY: The Environmental Protection Agency (EPA) is proposing to approve a revision to the Texas State Implementation Plan (SIP) for the Dallas/Fort Worth ozone nonattainment area to recategorize a local environmental speed limit control measure to a transportation control measure. The EPA is proposing to approve this SIP revision because it satisfies the requirements of sections 110 and part D of the Clean Air Act (CAA), and EPA's policy and guidance.

DATES: Written comments should be received on or before February 10, 2014.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Ms. Carrie Paige, Air Planning Section (6PD-L); telephone (214) 665-6521; email address paige.carrie@epa.gov.

SUPPLEMENTARY INFORMATION: In the final rules section of this Federal Register, EPA is approving the State's SIP submittal as a direct rule without prior proposal because the Agency views this as a noncontroversial submittal and anticipates no adverse comments. A detailed rationale for the approval is set forth in the direct final rule. If no relevant adverse comments are received in response to this action no further activity is contemplated. If EPA receives relevant adverse comments, the direct final rule will be withdrawn and all public comments received will be addressed in a subsequent final rule based on this proposed rule. EPA will not institute a second comment period. Any parties interested in commenting on this action should do so at this time.

For additional information, see the direct final rule which is located in the rules section of this Federal Register.

Dated: December 20, 2013.
Samuel Coleman,
Acting Regional Administrator, Region 6.

[FR Doc. 2014-00046 Filed 1-8-14; 8:45 am]

BILLING CODE 6560-50-P